FEDERAL COMMUNICATIONS COMMISSION

47 CFR Parts 2 and 95

[ET Docket No. 08-59; Report No. 2966]

Petition for Reconsideration of Action in Rulemaking Proceeding

AGENCY: Federal Communications Commission.

ACTION: Petition for reconsideration.

SUMMARY: In this document, Petitions for Reconsideration (Petitions) have been filed in the Commission's rulemaking proceeding filed by Dale Woodin, Executive Director of American Society for Healthcare Engineering of American Hospital Association, on behalf of American Society for Healthcare Engineering of the American Hospital Association, and David R. Sidall, Esq., for DS Law PLLC, on behalf of Phillips Healthcare, Ari Q. Fitzgerald, Esq., for Hogan Lovells US LLP, on behalf of GE Healthcare, and William K. Keane, Esq., for Duane Morris LLP, on behalf of AFTRCC.

DATES: Oppositions to the Petitions must be filed on or before December 3, 2012. Replies to an opposition must be filed on or before December 11, 2012.

ADDRESSES: Federal Communications Commission, 445 12th Street SW., Washington, DC 20554.

FOR FURTHER INFORMATION CONTACT: Brian Butler, Policy and Rules Division, Office of Engineering and Technology, (202) 418-2702, email brian.butler@fcc.gov.

SUPPLEMENTARY INFORMATION: This is a summary of Commission's document, Report No. 2966, released October 31, 2012. The full text of Report No. 2966 is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subject: Amendment of the Commission's Rules to Provide Spectrum for the Operation of Medical Body Area Networks, published at 77 FR 55715, September 11, 2012, in ET Docket No. 08-59, and published pursuant to 47 CFR 1.429(e) of the Commission's rules. See also 47 CFR 1.4(b)(1) of the Commission's rules.

Number of Petitions Filed: 2.

Federal Communications Commission.
Marlene H. Dortch,
Secretary, Office of the Secretary, Office of Managing Director.

[FR Doc. 2012-27798 Filed 11-15-12; 8:45 am]

BILLING CODE 6712-01-P